OFFICE OF THE UNITED STATES TRADE REPRESENTATIVE

Request for Comments and Notice of Public Hearing Concerning China's Compliance With WTO Commitments

AGENCY: Office of the United States Trade Representative.

ACTION: Request for comments and notice of public hearing concerning China's compliance with its WTO commitments.

SUMMARY: The Office of the United States Trade Representative (USTR) requests comments on China's compliance with the commitments it made in connection with its accession to the World Trade Organization (WTO). In addition, the Trade Policy Staff Committee (TPSC) will conduct a public hearing concerning China's compliance with these commitments.

DATES: Written comments are due by noon, Tuesday, September 10, 2002. A hearing will be held in Washington, DC, on Wednesday, September 18, 2002. Persons wishing to testify orally at the hearing must provide written notification of their intention, as well as a copy of their testimony, by noon, Thursday, September 5, 2002.

ADDRESSES: Submissions by mail or express delivery: Gloria Blue, Executive Secretary, Trade Policy Staff Committee, ATTN: China WTO, Office of the United States Trade Representative, 1724 F Street, NW., Washington, DC 20508.

Submissions by electronic mail: FR0020@ustr.gov (written comments); and FR0021@ustr.gov (notice of testimony and testimony). See requirements for submissions below.

FOR FURTHER INFORMATION CONTACT: For procedural questions concerning public comment or the public hearing, contact Gloria Blue, (202) 395-3475. All other questions should be directed to Terrence J. McCartin, Director of Monitoring and Enforcement for China, (202) 395-3900, or David Weller, Assistant General Counsel, (202) 395-3581.

SUPPLEMENTARY INFORMATION:

1. Background

China formally became a member of the WTO on December 11, 2001. In accordance with section 421 of the U.S.-China Relations Act of 2000 (Pub. L. 106-286), the USTR is required to submit, by December 11 of each year, a report to Congress on China's compliance with commitments made in connection with its accession to the WTO, including both multilateral commitments and any bilateral commitments made to the United States. In accordance with section 421, and to assist it in preparing the report, USTR is hereby soliciting public comment.

The terms of China's accession to the WTO are contained in the Protocol on the Accession of the People's Republic of China (including its annexes) (Protocol), the Report of the Working Party on the Accession of China (Working Party Report), and the WTO Agreement. The Protocol and Working Party Report can be found on the Department of Commerce webpage, http://www.mac.doc.gov/China/WTOAccessionPackage.htm, or on the WTO website, http://docsonline.wto.org (document symbols: WT/L/432, WT/MIN(01)/3, WT/MIN(01)/3/Add.1, WT/MIN(01)/3/Add.2).

2. Public Comment and Hearing

USTR invites written comments and/or oral testimony of interested persons on China's compliance with commitments made in connection with its accession to the WTO, including, but not limited to, commitments in the following areas: (a) Trading rights; (b) import regulation (e.g., tariffs, tariff-rate quotas, quotas, import licenses); (c) export regulation; (d) internal policies affecting trade (e.g., subsidies, standards and technical regulations, sanitary and phytosanitary measures, trade-related investment measures, taxes and charges levied on imports and exports); (e) intellectual property rights (including intellectual property enforcement); (f) services; (g) rule of law issues (e.g., transparency, judicial review, uniform administration of laws and regulations) and status of legal reform; and (h) other WTO commitments. Persons submitting written comments should list one or more of these categories on the first page of the comments, in order to identify the commitments discussed therein.

Written comments must be received no later than noon, Tuesday, September 10, 2002. Comments may be submitted by mail, express delivery service, or e-mail (to FR0020@ustr.gov). It is strongly recommended that comments submitted by mail or express delivery service also be sent by e-mail.

A hearing will be held on Wednesday, September 18, 2002, in Room 1, 1724 F Street, NW., Washington, DC 20508. If necessary, the hearing will continue on the next day.

Persons wishing to testify orally at the hearing must provide written notification of their intention by noon, Thursday, September 5, 2002. Requests should be made by e-mail (to FR0021@ustr.gov). The notification should include: (1) The name, address, and telephone number of the person presenting the testimony; and (2) a short (one or two paragraph) summary of the presentation, including the commitments at issue and, as applicable, the product(s) (with HTSUS numbers), service sector(s), or other subjects to be discussed. Notifications must be accompanied by a copy of the testimony. Remarks at the hearing should be limited to no more than five minutes to allow for possible questions from the Chairman and the interagency panel.

All documents should be submitted in accordance with the instructions in section 3 below.

3. Requirements for Submissions

Persons making submissions by e-mail should use the following subject line: “China WTO” followed by (as appropriate) “Written Comments”, “Notice of Testimony”, or “Testimony”. Documents should be submitted as either WordPerfect, MSWord, or text (.TXT) files. Supporting documentation submitted as spreadsheets are acceptable as Quattro Pro or Excel. For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. Similarly, to the extent possible, any attachments to the submission should be included in the same file as the submission itself, and not as separate files.

Persons submitting written comments by mail or express delivery service should provide 20 copies.

Written comments, notices of testimony, and testimony will be placed in a file open to public inspection pursuant to 15 CFR 2003.5, except confidential business information exempt from public inspection in accordance with 15 CFR 2003.6. Confidential business information submitted in accordance with 15 CFR 2003.6 must be clearly marked “BUSINESS CONFIDENTIAL” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file may be made by calling (202) 395-6186. Appointments must be scheduled at least 48 hours in advance.

Carmen Suro-Bredie,
Chairman, Trade Policy Staff Committee.

[FR Doc. 02-17186 Filed 7-8-02; 8:45 am]

BILLING CODE 3190-01-P